DEPARTMENT OF EDUCATION

Notice of Proposed Information Collection Requests

AGENCY: Department of Education.

SUMMARY: The Acting Director, Information Collection Clearance Division, Regulatory Information Management Services, Office of Management, invites comments on the proposed information collection requests as required by the Paperwork Reduction Act of 1995.

DATES: Interested persons are invited to submit comments on or before July 12, 2010.

SUPPLEMENTARY INFORMATION: Section 3506 of the Paperwork Reduction Act of 1995 (44 U.S.C. Chapter 35) requires that the Office of Management and Budget (OMB) provide interested Federal agencies and the public an early opportunity to comment on information collection requests. OMB may amend or waive the requirement for public consultation to the extent that public participation in the approval process would defeat the purpose of the information collection, violate State or Federal law, or substantially interfere with any agency's ability to perform its statutory obligations. The Acting Director, Information Collection Clearance Division, Regulatory Information Management Services, Office of Management, publishes that notice containing proposed information collection requests prior to submission of these requests to OMB. Each proposed information collection, grouped by office, contains the following: (1) Type of review requested, e.g. new, revision, extension, existing or reinstatement; (2) Title; (3) Summary of the collection; (4) Description of the need for, and proposed use of, the information; (5) Respondents and frequency of collection; and (6) Reporting and/or Recordkeeping burden. OMB invites public comment.

The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology.

Dated: May 10, 2010.
Stephanie Valentine,
Acting Director, Information Collection Clearance Division, Regulatory Information Management Services, Office of Management.

Institute of Education Sciences

Type of Review: Reinstatement.

Title: Program for International Student Assessments (PISA) 2012 Recruitment and Field Test.

Frequency: Annually.

Affected Public: Individuals or household.

Reporting and Recordkeeping Hour Burden:

Responses: 2,087.

Burden Hours: 1,057.

Abstract: The Program for International Student Assessment (PISA) is an international assessment that focuses on 15-year-olds' capabilities in reading, mathematics, and science literacy. It was first implemented by the National Center for Education Statistics (NCES) in 2000 and has been administered every 3 years since. This submission is for the fifth cycle in the series, PISA 2012, and requests OMB approval for field test and main study recruitment, field trial data collection, and a waiver of the 60-day Federal Register notice for the main study clearance in 2012. As in 2003, in PISA 2012, mathematics will be the major subject domain. The field test will also include computer-based assessments in reading, science, and general problem solving, and an assessment of financial literacy in a paper-and-pencil format. The United States may decide to participate in these components in the main study as well, based on the results of the field test. In addition to assessment data, PISA provides background information on school context and student demographics to benchmark performance and inform policy. School recruitment for the field test will begin in September 2010 with data collection beginning in March 2011. Main study recruitment will begin in September 2011 with data collection beginning in September 2012. The PISA 2012 field test sample will include about 35 schools (main study sample about 150) and about 1,600 students (4,500-5,700 for the main study, depending on the components administered). In January 2011 NCES will submit the final field trial instruments to OMB; then, following the field test study, in May 2011, NCES will submit to OMB the final main study recruitment materials, design, and burden; and in spring 2012, NCES will submit the final main study instruments.

Requests for copies of the proposed information collection request may be accessed from http://edicsweb.ed.gov, by selecting the “Browse Pending Collections” link and by clicking on link number 4303. When you access the information collection, click on “Download Attachments” to view. Written requests for information should be addressed to U.S. Department of Education, 400 Maryland Avenue, SW., LBJ, Washington, DC 20202-4537. Requests may also be electronically mailed to ICDocketMgr@ed.gov or faxed to 202-401-0920. Please specify the complete title of the information collection when making your request.

Comments regarding burden and/or the collection activity requirements should be electronically mailed to ICDocketMgr@ed.gov. Individuals who use a telecommunications device for the deaf (TDD) may call the Federal Information Relay Service (FIRS) at 1-800-877-8339.

[FR Doc. 2010-11478 Filed 5-12-10; 8:45 am]

BILLING CODE 4000-01-P